DEPARTMENT OF COMMERCE

Foreign-Trade Zones Board

[Doc. 3-2007]

Review of Sourcing Change, Foreign-Trade Subzone 43D, Perrigo Company, Allegan, Michigan, (Ibuprofen Products)

Pursuant to 15 CFR Sec. 400.27(d)(3) (vii)(B), the Foreign-Trade Zones Board (the Board) is making available for public inspection and comment the February 25, 2008, submission of the Perrigo Company (Perrigo) in the Board's review of the company's sourcing change (FTZ Doc. 3-2007). A copy of Perrigo's submission is available at the Office of the Executive Secretary, Foreign-Trade Zones Board, U.S. Department of Commerce, Room 2111, 1401 Constitution Ave., NW, Washington, D.C. 20230.

Comments on Perrigo's submission (original and 3 copies) shall be addressed to the Board's Executive Secretary at the address above. The closing period for their receipt is April 21, 2008. Rebuttal comments in response to material submitted during the foregoing period may be submitted during the subsequent 15-day period (to May 5, 2008).

Dated: March 13, 2008.
Andrew McGilvray,
Executive Secretary.

[FR Doc. E8-5665 Filed 3-19-08; 8:45 am]

BILLING CODE 3510-DS-S